DEPARTMENT OF ENERGY

Western Area Power Administration

Quartzsite Solar Energy Project Record of Decision (DOE/EIS-0440)

AGENCY: Western Area Power Administration, DOE.

ACTION: Record of Decision.

SUMMARY: Western Area Power Administration (Western), an agency within the U.S. Department of Energy (DOE), received a request from Quartzsite Solar Energy, LLC (QSE) to interconnect its proposed Quartzsite Solar Energy Project (Project) to Western's Bouse-Kofa 161-kilovolt (kV) transmission line. The proposed Project site is in an undeveloped area in La Paz County, Arizona, east of State Route (SR) 95, approximately 10 miles north of Quartzsite, Arizona, on lands administered by the U.S. Department of Interior, Bureau of Land Management (BLM).

On December 21, 2012, the Notice of Availability of the Final Environmental Impact Statement (EIS) and Yuma Field Office (Yuma) Proposed Resource Management Plan Amendment (PRMPA) for Quartzsite Solar Energy Project was published in the Federal Register (77 FR 75632). After considering the environmental impacts, Western has decided to allow QSE's request for interconnection to Western's transmission system on the Bouse-Kofa 161-kV transmission line and to construct, own, and operate a new switchyard and its associated communication pathway.

FOR FURTHER INFORMATION CONTACT: For further information, please contact Ms. Liana Reilly, Environmental Project Manager, Corporate Services Office, Western Area Power Administration, A7400, P.O. Box 281213, Lakewood, CO 80228, telephone (720) 962-7253, fax (720) 962-7263, or email: reilly@wapa.gov. For general information on DOE's National Environmental Policy Act of 1969 (NEPA) review process, please contact Carol M. Borgstrom, Director, Office of NEPA Policy and Compliance, GC-54, U.S. Department of Energy, Washington, DC 20585, telephone (202) 586-4600 or (800) 472-2756.

SUPPLEMENTARY INFORMATION: Western is a Federal agency under the DOE that markets and transmits wholesale electrical power through an integrated 17,000-circuit mile, high-voltage transmission system across 15 western states. Western's Open Access Transmission Service Tariff (Tariff) provides open access to its electric transmission system. In reviewing interconnection requests, Western must ensure that existing reliability and service is not degraded. Western's Large Generator Interconnection Procedures provide for transmission and system studies to ensure that system reliability and service to existing customers are not adversely affected by new interconnections.

In compliance with the NEPA, as amended, and the Federal Land Policy and Management Act of 1976, as amended, Western as lead agency, with the BLM as a cooperating agency, prepared and released the Draft EIS/PRMPA on November 10, 2011, and subsequently held public hearings on the document in Yuma, Arizona, on December 13, 2011, and in Quartzsite, Arizona, on December 14, 2011. Following the release of the Draft EIS/PRMPA, Western and the BLM prepared a Final EIS/PRMPA which was released on December 21, 2012 (77 FR 76477).¹ The U.S. Army Corps of Engineers, the U.S. Army Garrison-Yuma Proving Ground, the Arizona Department of Environmental Quality and the Arizona Game and Fish Department (AZGFD) were also cooperating agencies.

¹ The Final EIS can be found on Western's Web site at: http://ww2.wapa.gov/sites/Western/transmission/interconn/Pages/QuartzsiteSolar.aspx.

Proposed Federal Action

Western's proposed Federal action is to interconnect the proposed Project to Western's transmission system at the existing Bouse-Kofa 161-kV transmission line and construct, own, and operate a new switchyard on BLM-administered land adjacent to the transmission line as well as an associated communications pathway. Western has submitted a right-of-way (ROW) application to the BLM for its switchyard and communication pathway.

QSE Proposed Project

The proposed Project is a 100-megawatt solar electric power plant that would use concentrating solar power technology to capture the sun's heat to make steam, which would power a traditional steam turbine generator. The proposed Project would contain the central receiver or tower, a solar field consisting of mirrors or heliostats to reflect the sun's energy to the central tower, a conventional steam turbine generator, insulated storage tanks for hot and cold liquid salt, ancillary tanks, evaporation ponds, a temporary construction laydown area, technical and non-technical buildings, transformers and a 161/230-kV electrical switchyard, roads, and water wells. All components of the proposed Project would be located on BLM-administered land. A new 1.5-mile long 161/230-kV generation tie line would extend from the southern boundary of the solar facility boundary to a new switchyard to be constructed adjacent to Western's existing Bouse-Kofa 161-kV transmission line.

QSE has submitted a ROW application to the BLM for the proposed Project. The ROW application is for a total of 26,273 acres, of which 1,675 acres would be utilized for the final Project ROW if approved. The proposed Project site is in an undeveloped area in La Paz County, Arizona, east of SR 95, approximately 10 miles north of Quartzsite, Arizona.

Description of Alternatives

Three alternatives were analyzed in the EIS/PRMPA including the QSE's proposed Project with dry-cooling technology, Alternative 1 with hybrid cooling technology, and the No Action alternative. Also analyzed were three alternatives related to the Yuma PRMPA including approving the PRMPA to change approximately 6,800 acres of Visual Resource Management (VRM) Class III to VRM Class IV along with Project approval, approving the PRMPA to change approximately 6,800 acres of VRM Class III to VRM Class IV without Project approval, and the No Action alternative of not approving the PRMPA and leaving the current VRM Class III designation in place.

Western's preferred alternative is to grant the interconnection request for the proposed Project to Western's existing Bouse-Kofa 161-kV transmission line and to construct, operate, and maintain a new switchyard and communication pathway.

Western has identified the No Project/No Action Alternative as its environmentally-preferred alternative. Under this alternative, Western would deny the interconnection request and not modify its transmission system to interconnect the proposed Project. Under this alternative, there would be no modifications to Western's transmission system, and thus no new environmental impacts.

Mitigation Measures

QSE has incorporated best management practices and has incorporated built-in mitigation to the proposed Project. The mitigation includes regular weed monitoring and management during construction to prevent noxious weed introductions and conducting nest clearance surveys prior to construction and protecting the nests until chicks have fledged or have been relocated into suitable habitat. QSE has committed to these and the other mitigation measures that are noted in the Draft EIS/PRMPA in section 2.7: Best Management Practices and Built-In Mitigation. The measures were designed to avoid and minimize harm to the environment from the proposed Project. For Western's proposed switching station, Western requires its construction contractors to implement standard environmental protection provisions. These provisions are provided in Western's Construction Standard 13 (included as an appendix in the Draft EIS) and will be applied to the proposed switchyard. In addition, Western will comply with the stipulations in the special use permit that the BLM would issue, including desert tortoise fencing and the use of flat tone colors for the switchyard intended to blend with the surrounding environment.

With this decision, Western is not adopting any additional mitigation measures that apply to its action outside of the measures addressed in the Final EIS/PRMPA. The measures in the Final EIS/PRMPA reflect all practicable means to avoid or minimize environmental harm from the proposed Project and Western's proposed action.

Comments on Final EIS/PRMPA

Western received several comments on the Final EIS/PRMPA. Western received comments from the U.S. Environmental Protection Agency (EPA), from the Defenders of Wildlife and one from a collection of organizations including: The Wilderness Society/Arizona Wilderness Coalition/Sierra Club-Grand Canyon (Arizona) and Sonoran Institute. Based on a review of these comments, Western has determined that the comments do not present any significant new circumstances or information relevant to environmental concerns and bearing on the proposed Project or its impacts, and a Supplemental EIS is not required. The basis for this determination is summarized below.

EPA acknowledged that some of their previously expressed concerns were addressed. Additionally, EPA expressed concern regarding the lack of specificity regarding mitigation measures and the lack of consideration of numerous reasonably foreseeable projects in the limited analysis of cumulative impacts. As noted in the Final EIS/PRMPA, reasonably forseeable projects and their impacts were addressed in the Draft and Final EIS/PRMPA. Western references pages 4-3 through 4-10 of the Draft EIS/PRMPA and page 22 of the Final EIS/PRMPA for more information on the rationale for which projects were included in and excluded from the cumulative impacts analysis. EPA also expressed an interest in the implementation of recommendations that it feels could reduce the proposed Project's environmental impacts. Western's role in the proposed Project is to make a decision regarding the interconnection request. Western does not have authority over the generation facility to require the QSE to implement EPA's recommendations for improvements to the facility.

The Defenders of Wildlife expressed concern about the lack of compensatory habitat for the Mohave fringe-toed lizard. As noted on page 4-65 of the Draft EIS/PRMPA, current data shows there is no optimal habitat for the Mohave fringe-toed lizard in the proposed Project area and no compensatory habitat plan is in place for this species. Should impacts to the Mohave fringe-toed lizard occur, as noted on page 4-69 of the Draft EIS/PRMPA, “adaptive-management strategies to mitigate unforeseeable impacts as they occur,” will be incorporated. Furthermore, as noted on page 47 of the Final EIS/PRMPA, the BLM in cooperation with the AZGFD, proposes to authorize a monitor and study plan to address impacts to habitat functions and values to increase the scientific community's information on the Mohave fringe-toed lizard and its habitat.

Finally, The Wilderness Society/Arizona Wilderness Coalition/Sierra Club-Grand Canyon (Arizona) and Sonoran Institute expressed concern about the BLM management of lands with wilderness characteristics in and around the proposed Project area. Western does not have authority over BLM-administered lands and cannot dictate how lands with wilderness characteristics are managed. Land with wilderness characteristics were addressed on pages 42-43 of the Final EIS/PRMPA.

Decision

Western's decision is to allow QSE's request for interconnection to Western's transmission system at its Bouse-Kofa 161-kV transmission line and to construct, own and operate a new switchyard.² Western's decision to grant this interconnection request satisfies the agency's statutory mission and QSE's objectives while minimizing harm to the environment. Full implementation of this decision is contingent upon QSE obtaining all other applicable permits and approvals as well as executing an interconnection agreement in accordance with Western's Tariff.

² On November 16, 2011, DOE's Acting General Counsel restated the delegations to Western's Administrator of all the authorities of the General Counsel respecting environmental impact statements.

This decision is based on the information contained in the Project Draft and Final EIS/PRMPA. This ROD was prepared pursuant to the requirements of the Council on Environmental Quality Regulations for Implementing NEPA (40 CFR parts 1500-1508) and DOE's Procedures for Implementing NEPA (10 CFR part 1021).

Dated: May 6, 2013.
Mark A. Gabriel,
Administrator.

[FR Doc. 2013-11696 Filed 5-15-13; 8:45 am]

BILLING CODE 6450-01-P